GENERAL SERVICES ADMINISTRATION

Governmentwide Per Diem Advisory Board

AGENCY: General Services Administration.

ACTION: Notice of meeting.

SUMMARY: Notice is hereby given that the Governmentwide Per Diem Advisory Board will hold an open meeting from 9:30 a.m. to 2:30 p.m. on Wednesday, July 10, 2002. The meeting will be held at The American Institute of Architects Board Room, 1735 New York Ave., NW, Washington, DC 20006. This meeting is open to the public. Members of the public who wish to file a statement with the advisory committee may do so in writing c/o Rob Miller, General Services Administration, 1800 F St., NW, Room G-219, Washington, DC 20405, or via email at robl.miller@gsa.gov. Due to critical mission and schedule requirements, there is insufficient time to provide the full 15 calendar days' notice in the Federal Register prior to this meeting, pursuant to the final rule on Federal Advisory Committee Management codified at 41 CFR 102-3.150.

Purpose: To review the current process and methodology that is used by GSA's Office of Governmentwide Policy to determine the per diem rates for destinations within the continental United States (CONUS). The Board will develop recommendations for improvements to the process and/or methodology. In addition, the Board will provide advice regarding best practices for a Governmentwide lodging program.

For security and building access: (1) Attendees should be prepared to present a government issued photo identification; (2) ADA accessible facility; (3) Public seating may be limited.

FOR FURTHER INFORMATION CONTACT: Rob Miller at (202) 501-4621, Designated Federal Officer, or Joddy Garner at (202) 501-4857, Per Diem Program Manager, General Services Administration. Also, inquiries may be sent to robl.miller@gsa.gov.

Dated: June 25, 2002.
Becky Rhodes,
Deputy Associate Administrator, Office of Governmentwide Policy.

[FR Doc. 02-16408 Filed 6-27-02; 8:45 am]

BILLING CODE 6820-34-P